AGENCY FOR INTERNATIONAL DEVELOPMENT

Notice of Meeting of the Board for International Food and Agricultural Development and Request for Public Comment

AGENCY: Agency for International Development (USAID).

ACTION: Notice of meeting; request for public comment.

SUMMARY: The Board for International Food and Agricultural Development (BIFAD), an independent advisory committee to the US Agency for International Development (USAID) on food and agriculture issues, will convene a public meeting on September 17, 2024, “Demand-Side Interventions and Approaches for Healthy Diets.” The meeting will inform BIFAD recommendations to address evidence and evidence gaps, areas for additional research, and prioritized approaches and actions for USAID, centered around demand-side interventions to improve the processing, storage, distribution, sale, purchase, and consumption of safe and nutritious food. The program will include USAID, stakeholder, and public insights and deliberation of draft recommendations from the report.

DATES: September 17, 2024, 9:00 a.m. to 12:30 p.m. EST.

ADDRESSES: The event is open to the public and will be hosted in person at the National Press Club, Holeman Lounge, at 529 14th St NW, Washington, DC 20045. Virtual participation will also be possible via Zoom. In-person seating is limited. In-person participants should register at: https://forms.office.com/Pages/ResponsePage.aspx?id=uuQPpMer_kiHkrQ4iZNkAOPBZTxYdINPpaKX-AEjzyBURDBGWTRDSjVaMVVHTlQxMFhDTk1GV0JZOCQlQCN0PWcu. Virtual participants should register at https://tetratech.zoom.us/webinar/register/WN_hpfZDz2cSd6eYl3wIKpDnA. For registration inquiries, please contact Tom my Crocker at tommy.crocker@tetratech.com.

SUPPLEMENTARY INFORMATION: Healthy diets that are diverse, safe, and nutritious are central to all development efforts. They are core to the work of USAID and Feed the Future, the U.S. Government's global hunger and food security initiative. However, food security investments have historically focused on supply-side interventions to increase the production of staple crops, and on livelihoods strengthening to broadly increase consumer purchasing power. Relatively less attention has been paid to promoting safe nutritious foods and generating consumer demand for them. Emerging evidence indicates that a supply-side approach, which largely neglects incorporating a nutrition-sensitive lens, may not be sufficient to achieve healthy diets and overcome malnutrition.

A public meeting on September 17, 2024 will inform BIFAD recommendations to shape the next steps in USAID's strategic thinking and policy prioritization towards the objective of achieving healthy diets for all. This meeting will address evidence and evidence gaps, areas for additional research, and prioritized approaches and actions for USAID, centered around demand-side interventions and approaches to improve the processing, storage, distribution, sale, purchase, and consumption of safe and nutritious food.

Also relevant is the interplay between businesses and consumers, including building strong relationships of trust, positive business behaviors, and informed consumer purchasing behaviors and preferences. The geographic focus will be on low- and middle-income contexts in Feed the Future Target Countries. The meeting will include a presentation of key findings from a review prepared for BIFAD and an expert roundtable event, to be posted publicly on September 3, 2024 at https://www.usaid.gov/bifad prior to the public meeting.

Key questions to be addressed at the meeting include:

1. How can USAID work better with communities, national governments and private sector stakeholders to enhance consumer demand for safe and nutritious foods in ways that improve the diets of whole households, including women and children?

2. How can demand-focused interventions improve the affordability of healthy diets?

3. How can the progress and outcomes of demand-focused interventions be measured and evaluated?

The program will include Agency and stakeholder insights, a public comment period, and deliberation of draft findings, conclusions, and recommendations. For questions about BIFAD, or to submit written comments, evidence, or materials in advance or following the meeting, please use this feedback form https://docs.google.com/forms/d/e/1FAIpQLSfi903QVIdhrHDiXPmd3Xe_lFRiXGGeIgaPiARyqjcu3XFYTQ/viewform or contact Clara Cohen, Designated Federal Officer for BIFAD in the Bureau for Resilience, Environment, and Food Security at USAID via email at ccohen@usaid.gov (Subject: Comment on the BIFAD Demand-Side Interventions for Healthy Diets) or telephone at (202) 712-0119. Consistent with Executive Order 13166 and the Rehabilitation Act, as amended, 29 U.S.C. 794, please submit requests for physical or virtual meeting accommodations via email to ccohen@usaid.gov.

BIFAD is a seven-member, presidentially appointed advisory committee to USAID established in 1975 under title XII of the Foreign Assistance Act, as amended, to ensure that USAID brings the assets of U.S. universities to bear on development challenges in agriculture and food security, and supports their representation in USAID programming.

Clara Cohen,
Designated Federal Officer, BIFAD.

[FR Doc. 2024-18042 Filed 8-13-24; 8:45 am]

BILLING CODE P